DEPARTMENT OF COMMERCE

National Oceanic and Atmospheric Administration

50 CFR Part 679

[Docket No. 0810141351-9087-02]

RIN 0648-XO11

Fisheries of the Exclusive Economic Zone Off Alaska; Atka Mackerel in the Bering Sea and Aleutian Islands Management Area

AGENCY: National Marine Fisheries Service (NMFS), National Oceanic and Atmospheric Administration (NOAA), Commerce.

ACTION: Temporary rule; closures and openings.

SUMMARY: NMFS is announcing the opening and closing dates of the Amendment 80 cooperative's Atka mackerel directed fishery within the harvest limit area (HLA) in Statistical Areas 542 and 543 (Area 542 and Area 543), and the opening and closing dates of the BSAI Trawl Limited Access Atka mackerel directed fishery within the harvest limit area (HLA) in Statistical Area 542 . This action is necessary to fully use the 2009 A season HLA limits of Atka mackerel in Areas 542 and 543 of the Bering Sea and Aleutian Islands management area (BSAI).

DATES: The directed fishery in the HLA for Area 542 by the Amendment 80 cooperative vessels authorized to participate in the first HLA fishery in Area 542, opens effective 1200 hrs, A.l.t., March 27, 2009, through 1200 hrs, A.l.t., April 6, 2009.

The directed fishery in the HLA for Area 542 by the Amendment 80 cooperative vessels authorized to participate in the second HLA fishery in area 542, opens effective 1200 hrs, A.l.t., April 7, 2009, through 1200 hrs, A.l.t., April 15, 2009.

The directed fishery in the HLA for Area 542 by the BSAI Trawl Limited Access vessels authorized to participate in the first HLA fishery in Area 542, opens effective 1200 hrs, A.l.t., March 27, 2009, through 1200 hrs, A.l.t., April 6, 2009.

The directed fishery in the HLA for Area 543 by the Amendment 80 cooperative vessels authorized to participate in the first HLA fishery in Area 543, opens effective 1200 hrs, A.l.t., March 27, 2009, through 1200 hrs, A.l.t., April 6, 2009.

Comments must be received at the following address no later than 4:30 p.m., A.l.t., April 10, 2009.

ADDRESSES: Send comments to Sue Salveson, Assistant Regional Administrator, Sustainable Fisheries Division, Alaska Region, NMFS, Attn: Ellen Sebastian. You may submit comments, identified by “RIN 0648-XO11,” by any one of the following methods:

• Electronic Submissions: Submit all electronic public comments via the Federal eRulemaking Portal website at http://www.regulations.gov.

• Mail: P. O. Box 21668, Juneau, AK 99802.

• Fax: (907) 586-7557.

• Hand delivery to the Federal Building: 709 West 9th Street, Room 420A, Juneau, AK.

All comments received are a part of the public record and will generally be posted to http://www.regulations.gov without change. All Personal Identifying Information (e.g., name, address) voluntarily submitted by the commenter may be publicly accessible. Do not submit Confidential Business Information or otherwise sensitive or protected information.

NMFS will accept anonymous comments. Enter “N/A” in the required fields, if you wish to remain anonymous. Attachments to electronic comments will be accepted in Microsoft Word, Excel, WordPerfect, or Adobe portable document file (pdf) formats only.

FOR FURTHER INFORMATION CONTACT: Mary Furuness, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

In accordance with the final 2009 and 2010 harvest specifications for groundfish in the BSAI (74 FR 7359, February 17, 2009) the HLA limit of the A season allowance of the 2009 TAC for Atka mackerel in Area 542 is 3,314 metric tons (mt) and in Area 543 is 1,739 mt for the Amendment 80 cooperative. For BSAI trawl Limited Access in Area 542, the HLA limit of the A season allowance of the 2009 TAC for Atka mackerel is 348 mt. NMFS previously announced the opening and closing dates of the first and second directed fisheries within the HLA in Statistical Areas 542 and 543 (74 FR 5625, January 30, 2009) and (74 FR 8216, February 24, 2009). NMFS has determined that approximately 1,111 mt of Atka mackerel remain in the A season HLA limit in Area 542 and approximately 1,726 mt of Atka mackerel remain in the A season HLA limit in Area 543 for vessels participating in the Amendment 80 cooperative. NMFS has also determined that approximately 273 mt of Atka mackerel remain in the A season HLA limit in Area 542 for vessels participating in the BSAI Trawl Limited Access fishery. Therefore, in accordance with § 679.25(a)(1)(i), (a)(2)(i)(C) and (a)(2)(iii)(D), and to fully utilize the A season HLA limits of Atka mackerel in Areas 542 and 543, NMFS is terminating the previous closures and is opening directed fishing for Atka mackerel in the HLA of Areas 542 and 543 for Amendment 80 cooperative vessels authorized to participate in the first HLA fishery in Areas 542 and 543. NMFS is also terminating the previous closure and is opening directed fishing for Atka mackerel in the HLA of Area 542 for BSAI Trawl Limited Access vessels authorized to participate in the first HLA fishery in Area 542. In accordance with § 679.20(a)(8)(iii)(E), the Regional Administrator has established the closure dates of the Atka mackerel directed fishery in the HLA for Areas 542 and 543 based on the amount of the harvest limit and the estimated fishing capacity of the vessels assigned to the fishery.

The directed fishery in the HLA for Area 542 by the Amendment 80 cooperative vessels authorized to participate in the first HLA fishery in Area 542, opens effective 1200 hrs, A.l.t., March 27, 2009. The HLA fishery in Area 542 will remain open until 1200 hrs, A.l.t., April 6, 2009.

The directed fishery in the HLA for Area 542 by the Amendment 80 cooperative vessels authorized to participate in the second HLA fishery in Area 542, opens effective 1200 hrs, A.l.t., April 7, 2009. The HLA fishery in Area 542 will remain open until 1200 hrs, A.l.t., April 15, 2009.

The directed fishery in the HLA for Area 542 by the BSAI Trawl Limited Access vessels authorized to participate in the first HLA fishery in Area 542, opens effective 1200 hrs, A.l.t., March 27, 2009. The HLA fishery in Area 542 will remain open until 1200 hrs, A.l.t., April 6, 2009.

The directed fishery in the HLA for Area 543 by the Amendment 80 cooperative vessels authorized to participate in the first HLA fishery in area 543, opens effective 1200 hrs, A.l.t., March 27, 2009. The HLA fishery in Area 543 will remain open until 1200 hrs, A.l.t., April 6, 2009.

After the effective dates of these closures, the maximum retainable amounts at § 679.20(e) and (f) apply at any time during a trip.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the opening and closing of the fishery for the HLA limit established for Areas 542 and 543 pursuant to the 2009 Atka mackerel TAC. NMFS was unable to publish a notice providing time for public comment because the most recent, relevant data only became available as of March 23, 2009. The AA also finds good cause to waive the 30-day delay in the effective date of this action under 5 U.S.C. 553(d)(3). Under § 679.25(c)(2), interested persons are invited to submit written comments on this action to the above address until April 10, 2009.

This action is required by § 679.20 and § 679.25 and is exempt from review under Executive Order 12866.

Authority: 16 U.S.C. 1801 et seq.

Dated: March 25, 2009.
Alan D. Risenhoover
Director, Office of Sustainable Fisheries, National Marine Fisheries Service.

[FR Doc. E9-7178 Filed 3-26-09; 4:15 am]

BILLING CODE 3510-22-S